INTERNATIONAL TRADE COMMISSION

[Investigation No. 731-TA-1424 (Final)]

Mattresses From China

Determination

On the basis of the record ¹ developed in the subject investigation, the United States International Trade Commission (“Commission”) determines, pursuant to the Tariff Act of 1930 (“the Act”), that an industry in the United States is materially injured by reason of imports of mattresses from China, provided for in subheadings 9404.21.00, 9404.29.10, 9404.29.90, 9401.40.00, and 9401.90.50 of the Harmonized Tariff Schedule of the United States, that have been found by the U.S. Department of Commerce (“Commerce”) to be sold in the United States at less than fair value (“LTFV”).2 3 4

¹ The record is defined in sec. 207.2(f) of the Commission's Rules of Practice and Procedure (19 CFR 207.2(f)).

² 84 FR 56761 (October 23, 2019).

³ Commissioner Jason E. Kearns did not participate in this investigation.

⁴ The Commission also finds that imports subject to Commerce's affirmative critical circumstances determination are not likely to undermine seriously the remedial effect of the antidumping duty order on China.

Background

The Commission, pursuant to section 735(b) of the Act (19 U.S.C. 1673d(b)), instituted this investigation effective September 18, 2018, following receipt of a petition filed with the Commission and Commerce by Corsicana Mattress Company, Dallas, Texas; Elite Comfort Solutions, Newnan, Georgia; Future Foam Inc., Council Bluffs, Iowa; FXI, Inc., Media, Pennsylvania; Innocor, Inc., Red Bank, New Jersey; Kolcraft Enterprises Inc., Chicago, Illinois; Leggett & Platt, Incorporated, Carthage, Missouri; Serta Simmons Bedding, LLC, Atlanta, Georgia; and Tempur Sealy International, Inc., Lexington, Kentucky. The Commission scheduled the final phase of the investigation following notification of a preliminary determination by Commerce that imports of mattresses from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of June 13, 2019 (84 FR 27657). The hearing was held in Washington, DC, on October 11, 2019, and all persons who requested the opportunity were permitted to appear in person or by counsel.

The Commission made this determination pursuant to section 735(b) of the Act (19 U.S.C. 1673d(b)). It completed and filed its determination in this investigation on December 9, 2019. The views of the Commission are contained in USITC Publication 5000 (December 2019), entitled Mattresses from China: Investigation No. 731-TA-1424 (Final).

By order of the Commission.
Issued: December 9, 2019.
Lisa Barton,
Secretary to the Commission.

[FR Doc. 2019-26773 Filed 12-11-19; 8:45 am]

BILLING CODE 7020-02-P